ARCHITECTURAL AND TRANSPORTATION BARRIERS COMPLIANCE BOARD

Architectural and Transportation Barriers Compliance Board Meeting

AGENCY: Architectural and Transportation Barriers Compliance Board.

ACTION: Notice of meeting.

SUMMARY: The Architectural and Transportation Barriers Compliance Board (Access Board) has scheduled its regular business meetings to take place in Washington, DC from Tuesday through Wednesday, May 9-10, 2006, at the times and location noted below.

DATES: The schedule of events is as follows:

Tuesday, May 9, 2006

9-10 a.m. Budget Committee.

10-Noon Technical Programs Committee.

1:30-3 p.m. Committee of the Whole on Rulemaking Plan (Closed Session).

3-5 p.m. Planning and Evaluation Committee.

Wednesday, May 10, 2006

9 a.m.-Noon Information Meeting on Transportable Emergency Housing.

1:30-3 p.m. Board Meeting.

ADDRESSES: All meetings will be held at the Crowne Plaza Hotel, 1001 14th Street, NW., Washington, DC 20005.

FOR FURTHER INFORMATION CONTACT: For further information regarding the meetings, please contact Lawrence W. Roffee, Executive Director, (202) 272-0001 (voice) and (202) 272-0082 (TTY).

SUPPLEMENTARY INFORMATION: At the Board meeting, the Access Board will consider the following agenda items:

• Approval of the March 15, 2006 draft Board Meeting Minutes.

• Committee of the Whole on Rulemaking Report.

• Budget Committee Report.

• Technical Programs Committee Report.

• Planning and Evaluation Committee Report.

• Transportable Emergency Housing Meeting Report.

All meetings are accessible to persons with disabilities. An assistive listening system will be available at the Board meetings. Members of the general public who require sign language interpreters must contact the Access Board by Wednesday, May 3, 2006. Persons attending Board meetings are requested to refrain from using perfume, cologne, and other fragrances for the comfort of other participants.

Lawrence W. Roffee,
Executive Director.

[FR Doc. E6-6182 Filed 4-24-06; 8:45 am]

BILLING CODE 8150-01-P